DEPARTMENT OF TRANSPORTATION

Federal Transit Administration

49 CFR Part 611

[Docket No. FTA-2010-0009]

RIN 2132-AB02

Major Capital Investment Projects

AGENCY: Federal Transit Administration (FTA), DOT.

ACTION: Public meetings on ANPRM.

SUMMARY: This document announces the dates, times, and locations of outreach sessions concerning the Advance Notice of Proposed Rulemaking (ANPRM) for FTA's New Starts and Small Starts programs. Presentations delivered at these meetings will describe the provisions of the ANPRM issued by the Federal Transit Administration (FTA). Further outreach sessions, if scheduled, will be announced in a subsequent Federal Register notice.

DATES: See SUPPLEMENTARY INFORMATION section for meeting dates.

ADDRESSES: See SUPPLEMENTARY INFORMATION section for meeting locations.

FOR FURTHER INFORMATION CONTACT: Elizabeth Day, Office of Planning and Environment, (202) 366-5159; for questions of a legal nature, Christopher Van Wyk, Office of Chief Counsel, (202) 366-1733. FTA is located at 1200 New Jersey Avenue, SE., Washington, DC 20590. Office hours are from 9 a.m. to 5:30 p.m., EST, Monday through Friday, except Federal holidays.

SUPPLEMENTARY INFORMATION: FTA announced the time and location of its first two outreach meetings with the ANPRM published on June 3, 2010 (75 FR 31383), noting that additional meetings would be announced in subsequent Federal Register notices. The meetings listed below are additional outreach sessions that will provide a forum for FTA staff to make oral presentations on the ANPRM and for participants to ask questions. Additionally, the sessions are intended to encourage interested parties and stakeholders to submit their comments directly to the official docket per the instructions found in the June 3, 2010 ANPRM. Further outreach sessions, if scheduled, will be announced in a subsequent Federal Register notice.

I. Meetings

Information on the public outreach session meeting dates and addresses follows:

1. Tuesday, June 29, 2010, 9 a.m.-1 p.m., CST, 165 East Ontario Street, Chicago, IL 60611 (Courtyard Marriott Magnificent Mile Hotel, Ontario Ballroom).

2. Wednesday, June 30, 2010, 9 a.m.-1 p.m., PST, 299 Second Street, San Francisco, CA 94105 (Courtyard Marriott San Francisco Downtown Hotel, Rincon Hill Ballroom).

3. Monday, July 12, 2010, 9 a.m.-1 p.m., CST, 300 Reunion Blvd, Dallas, TX 75207 (Hyatt Regency Dallas Hotel, Reunion Ballroom F).

4. Thursday, July 15, 2010, 9 a.m.-1 p.m., EST, 525 New Jersey Ave, NW., Washington, DC 20001 (Washington Court Hotel, Atrium Ballroom).

II. Comment Format

Meeting attendees will have an opportunity to pose questions to the speakers and to the group as a whole. It is the responsibility of individuals who wish for their comments to become part of the official public record to submit their comments directly to the official docket for the rulemaking. Instructions for doing so can be found in the June 3rd ANPRM.

III. Registration

Registration is not required in order to attend one of these public meetings. But in order to ensure adequate space and handouts, participants are encouraged to register for the outreach sessions at the Web sites that follow each city name: Chicago (http://www.regonline.com/NewStartsANPRMOutreachChicago); San Francisco (http://www.regonline.com/NewStartsANPRMOutreachSanFrancisco); Dallas (http://www.regonline.com/NewStartsANPRMOutreachDallas); Washington, DC (http://www.regonline.com/NewStartsANPRMOutreachWashingtonDC).

IV. Special Accommodations

All locations are ADA-accessible. Individuals attending a meeting who are hearing or visually impaired and have special requirements, or requiring special assistance, may obtain this by calling Elizabeth Day at (202) 366-5159.

Issued in Washington, DC, June 8, 2010.
Scott A. Biehl,
Deputy Chief Counsel.

[FR Doc. 2010-14169 Filed 6-14-10; 8:45 am]

BILLING CODE 4910-57-P